DEPARTMENT OF ENERGY

[Docket No. EA-303]

Application to Export Electric Energy; Saracen Merchant Energy LP

AGENCY: Office Electricity Delivery & Energy Reliability, DOE.

ACTION: Notice of application.

SUMMARY: Saracen Merchant Energy LP (Saracen) has applied for authority to transmit electric energy from the United States to Canada pursuant to section 202(e) of the Federal Power Act.

DATES: Comments, protests or requests to intervene must be submitted on or before July 6, 2005.

ADDRESSES: Comments, protests or requests to intervene should be addressed as follows: Office Electricity Delivery & Energy Reliability (Mail Code OE-20), U.S. Department of Energy, 1000 Independence Avenue, SW., Washington, DC 20585-0350 (FAX 202-287-5736).

FOR FURTHER INFORMATION CONTACT: Steven Mintz (Program Office) 202-586-2793 or Michael Skinker (Program Attorney) 202-586-2793.

SUPPLEMENTARY INFORMATION: Exports of electricity from the United States to a foreign country are regulated and require authorization under section 202(e) of the Federal Power Act (FPA) (16 U.S.C. 824a(e)).

On May 4, 2005, the Department of Energy (DOE) received an application from Saracen to transmit electric energy from the United States to Canada. Saracen is a Texas limited partnership with its principal place of business in Houston, TX. Saracen has requested an electricity export authorization with a 5-year term. Saracen does not own or control any transmission or distribution assets, nor does it have a franchised service area. The electric energy which Saracen proposes to export to Canada would be purchased from electric utilities and Federal power marketing agencies within the U.S.

Saracen proposes to arrange for the delivery of electric energy to Canada over the existing international transmission facilities owned by Basin Electric Power Cooperative, Bonneville Power Administration, Eastern Maine Electric Cooperative, International Transmission Company, Joint Owners of the Highgate Project, Long Sault, Inc., Maine Electric Power Company, Maine Public Service Company, Minnesota Power Inc., Minnkota Power Cooperative, New York Power Authority, Niagara Mohawk Power Corporation, Northern States Power, Vermont Electric Company, and Vermont Electric Transmission Company. The construction, operation, maintenance, and connection of each of the international transmission facilities to be utilized by Rainbow, as more fully described in the application, has previously been authorized by a Presidential permit issued pursuant to Executive Order 10485, as amended.

Procedural Matters: Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with DOE on or before the date listed above.

Comments on the Saracen application to export electric energy to Canada should be clearly marked with Docket EA-303. Additional copies are to be filed directly with Dede Russo, General Counsel, Saracen Energy Partners, LP, 2001 Hermann Drive, Suite 100, Houston, TX 77004 and Daniel E. Frank, Sutherland Asbill & Brennan LLP, 1275 Pennsylvania Avenue, NW., Washington, DC 20004-2415.

A final decision will be made on this application after the environmental impacts have been evaluated pursuant to the National Environmental Policy Act of 1969, and a determination is made by the DOE that the proposed action will not adversely impact on the reliability of the U.S. electric power supply system.

Copies of this application will be made available, upon request, for public inspection and copying at the address provided above or by accessing the program's Home Page at http://www.fe.doe.gov. Upon reaching the Home page, select “Electricity Regulation,” and then “Pending Proceedings” from the options menus.

Issued in Washington, DC, on May 27, 2005.
Anthony J. Como,
Senior Advisor to the Director for Regulatory Programs, Office of Electricity Delivery & Energy Reliability.

[FR Doc. 05-11156 Filed 6-3-05; 8:45 am]

BILLING CODE 6450-01-P